ENVIRONMENTAL PROTECTION AGENCY

[EPA-HQ-OPPT-2016-0474; FRL-9950-66]

Science Advisory Committee on Chemicals; Establishment of a Federal Advisory Committee; Request for Nominations

AGENCY: Environmental Protection Agency (EPA).

ACTION: Notice.

SUMMARY: As required by section 9(a)(2) of the Federal Advisory Committee Act (FACA), EPA is giving notice that, pursuant to section 2625(o) of the Frank R. Lautenberg Chemical Safety for the 21st Century Act, the Agency is establishing the Science Advisory Committee on Chemicals (SACC). The purpose of the SACC is to provide independent advice and expert consultation, at the request of the EPA Administrator, with respect to the scientific and technical aspects of risk assessments, methodologies, and pollution prevention measures or approaches supporting implementation of the Frank R. Lautenberg Chemical Safety for the 21st Century Act. Copies of the SACC charter will be filed with the appropriate congressional committees and the Library of Congress. The 14 members of the SACC will be selected from interested and available members of the existing EPA Chemical Safety Advisory Committee (CSAC). In addition, EPA invites the public to nominate experts to be considered for the Science Advisory Committee on Chemicals.

DATES: Nominations and comments must be received on or before October 11, 2016.

ADDRESSES: Submit your nominations and comments, identified by docket identification (ID) number EPA-HQ-OPPT-2016-0474, by one of the following methods:

• Federal eRulemaking Portal: https://www.regulations.gov. Follow the online instructions for submitting comments. Do not submit electronically any information you consider to be Confidential Business Information (CBI) or other information whose disclosure is restricted by statute.

• Mail: OPPT Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Steven Knott, DFO, Office of Science Coordination and Policy (7201M), Environmental Protection Agency, 1200 Pennsylvania Ave. NW., Washington, DC 20460-0001; telephone number: (202) 564-0103; email address: knott.steven@epa.gov.

SUPPLEMENTARY INFORMATION:

I. General Information

A. Does this action apply to me?

This action is directed to the public in general. This action may, however, be of interest to those involved in the manufacture, processing, distribution, disposal, and/or interested in the assessment of risks involving chemical substances and mixtures. Since other entities may also be interested, the Agency has not attempted to describe all the specific entities that may be affected by this action.

B. What is EPA's authority?

This committee is being established under FACA, 5 U.S.C. Appendix 2, and pursuant to the Frank R. Lautenberg Chemical Safety for the 21st Century Act.

II. Purpose and Function of the Science Advisory Committee on Chemicals

The SACC is being established under FACA section 9(a), and pursuant to section 2625(o) of the Frank R. Lautenberg Chemical Safety for the 21st Century Act, to provide advice and recommendations on the scientific basis for risk assessments, methodologies, and pollution prevention measures or approaches.

EPA's Office of Pollution Prevention and Toxics (OPPT) manages programs under the Frank R. Lautenberg Chemical Safety for the 21st Century Act, 15 U.S.C. 2601 et seq. and the Pollution Prevention Act (PPA), 42 U.S.C. 13101 et seq. Under these laws, EPA evaluates new and existing chemical substances and their risks, and finds ways to prevent or reduce pollution before it is released into the environment. OPPT also manages a variety of environmental stewardship programs that encourage companies to reduce and prevent pollution.

The SACC will be composed of approximately 14 members who will serve as Special Government Employees or Regular Government Employees (RGEs). The SACC expects to meet in person or by electronic means (e.g., webinar) approximately 3 to 4 times a year, or as needed and approved by the Designated Federal Officer (DFO). Meetings will be held in the Washington, DC metropolitan area. The charter will be in effect for 2 years from the date it is filed with Congress. After the initial 2-year period, the charter will be renewed as authorized in accordance with section 14 of FACA (5 U.S.C. Appendix 2, Section 14). A copy of the charter will be available on the EPA Web site and in the docket.

III. Nominations Sought

Potentially, 9 of the 14 members of the SACC will be selected from interested and available members of the existing EPA Chemical Safety Advisory Committee (CSAC). Brief biographical sketches for CSAC members are posted on the CSAC Web site at https://www.epa.gov/csac/chemical-safety-advisory-committee-members. CSAC members who are interested and available for the SACC include:

1. Holly Davies, Ph.D., Senior Toxicologist, Department of Ecology, State of Washington, Olympia, WA.

2. William Doucette, Ph.D., Professor, Department of Civil and Environmental Engineering, Utah State University, Logan, UT.

3. Panos G. Georgopoulos, Ph.D., Professor of Environmental and Occupational Health, Rutgers Biomedical and Health Sciences—School of Public Health, Rutgers, The State University of New Jersey, Piscataway, NJ.

4. Kathleen Gilbert, Ph.D., Professor, Department of Microbiology and Immunology, University of Arkansas for Medical Sciences, Little Rock, AR.

5. John Kissel, Ph.D., Professor of Environmental and Occupational Health Sciences, University of Washington, Seattle, WA.

6. Jaymie Meliker, Ph.D., Associate Professor, Program in Public Health, Department of Family, Population, & Preventive Medicine, Stony Brook University, Stony Brook, NY.

7. Kenneth Portier, Ph.D., Vice President, Statistics and Evaluation Center, American Cancer Society, Atlanta, GA.

8. Daniel Schlenk, Ph.D., Professor of Aquatic Ecotoxicology and Environmental Toxicology, University of California, Riverside, Riverside, CA.

9. Kristina Thayer, Ph.D., Deputy Division Director of Analysis and Director, Office of Health Assessment and Translation, National Toxicology Program, National Institute of Environmental Health Sciences, Research Triangle Park, NC.

In addition to the 9 interested and available members of CSAC, EPA anticipates selecting 5 new members for the SACC. Nominations for membership are being solicited through publication of this document in the Federal Register and through other sources. Any interested person or organization may nominate him or herself or any qualified individual to be considered for the SACC. Nominations should include candidates who have demonstrated high levels of competence, knowledge, and expertise in scientific/technical fields relevant to chemical risk assessment and pollution prevention. In particular, the nominees should include representation of the following disciplines, including, but not limited to: Human health and ecological risk assessment, biostatistics, epidemiology, pediatrics, physiologically-based pharmacokinetics (PBPK), toxicology and pathology (including neurotoxicology, developmental/reproductive toxicology, and carcinogenesis), and chemical exposure to susceptible life stages and subpopulations (including women, children, and others). EPA values and welcomes diversity and encourages nominations of women and men of all racial and ethnic groups.

IV. Selection Criteria

In addition to scientific expertise, in selecting members, EPA will consider the differing perspectives and breadth of collective experience needed to address EPA's charge to the SACC, as well as the following:

• Background and experiences that would contribute to the diversity of scientific viewpoints on the committee, including professional experiences in government, labor, public health, public interest, animal protection, industry, and other groups, as the EPA Administrator determines to be advisable (e.g., geographical location; social and cultural backgrounds; and professional affiliations);

• Skills and experience working on committees and advisory panels including demonstrated ability to work constructively and effectively in a committee setting;

• Absence of financial conflicts of interest or the appearance of a loss of impartiality;

• Willingness to commit adequate time for the thorough review of materials provided to the committee; and

• Availability to participate in committee meetings.

The names, affiliations and brief biographical sketches of the interested and available nominees will be published in the Federal Register for a 30 day public comment period. This same information for those who are selected by EPA to serve on the SACC will be available on the EPA Web site at https://www.epa.gov/csac.

Authority: 15 U.S.C. 2625 et seq.; 5 U.S.C. Appendix 2 et seq.

Dated: August 17, 2016.
James Jones,
Assistant Administrator, Office of Chemical Safety and Pollution Prevention.

[FR Doc. 2016-20550 Filed 8-25-16; 8:45 am]

BILLING CODE 6560-50-P